DEPARTMENT OF ENERGY

Federal Energy Regulatory Commission

Combined Notice of Filings #2

Take notice that the Commission received the following electric rate filings:

Docket Numbers: ER10-1714-007.

Applicants: LG&E Energy Marketing Inc.

Description: Triennial Market Power Update for Central Region of LG&E Energy Marketing Inc.

Filed Date: 6/30/15.

Accession Number: 20150630-5467.

Comments Due: 5 p.m. ET 8/31/15.

Docket Numbers: ER10-3110-005; ER10-3144-006.

Applicants: Union Power Partners, L.P., Entegra Power Services LLC.

Description: Updated Market Power Analysis for Market-Based Rate Authority for Central Region of Union Power Partners, L.P., et al.

Filed Date: 6/30/15.

Accession Number: 20150630-5468.

Comments Due: 5 p.m. ET 8/31/15.

Docket Numbers: ER13-1371-002.

Applicants: GP Big Island, LLC.

Description: Compliance filing: Compliance filing to 8202018 to be effective 7/2/2015.

Filed Date: 7/1/15.

Accession Number: 20150701-5299.

Comments Due: 5 p.m. ET 7/22/15.

Docket Numbers: ER13-1653-002.

Applicants: FirstEnergy Solutions Corp.

Description: Compliance filing: Authorization for Affiliate Sales to be effective 6/1/2015.

Filed Date: 7/1/15.

Accession Number: 20150701-5165.

Comments Due: 5 p.m. ET 7/22/15.

Docket Numbers: ER15-1440-001.

Applicants: Midcontinent Independent System Operator, Inc., Cleco Power LLC.

Description: Compliance filing: 2015-07-01_Compliance Cleco-COA JPZ Agreement Filing to be effective 12/1/2014.

Filed Date: 7/1/15.

Accession Number: 20150701-5200.

Comments Due: 5 p.m. ET 7/22/15.

Docket Numbers: ER15-1905-002.

Applicants: AZ721 LLC.

Description: Tariff Amendment: Second Amendment to Market Based Rate Filing to be effective 8/11/2015.

Filed Date: 7/1/15.

Accession Number: 20150701-5227.

Comments Due: 5 p.m. ET 7/22/15.

Docket Numbers: ER15-2089-000.

Applicants: PJM Interconnection, L.L.C.

Description: Section 205(d) Rate Filing: Original Service Agreement No. 4158, Queue Position #None to be effective 6/1/2015.

Filed Date: 7/1/15.

Accession Number: 20150701-5188.

Comments Due: 5 p.m. ET 7/22/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2015.
Nathaniel J. Davis, Sr.,
Deputy Secretary.

[FR Doc. 2015-16882 Filed 7-9-15; 8:45 am]

BILLING CODE 6717-01-P